DEPARTMENT OF HOMELAND SECURITY

Coast Guard

[USCG-2005-22541]

Merchant Mariner Credentials: Temporary Procedures

AGENCY: Coast Guard, DHS.

ACTION: Notice of extension of validity for merchant mariner credentials.

SUMMARY: On August 29, 2005, Hurricane Katrina devastated the coastlines of Alabama, Mississippi, and Louisiana. The Regional Examination Center at New Orleans, which provided credentialing services to approximately 29,000 mariners in those three states and 14 percent of mariners nationwide, was completely flooded, destroying vital records and equipment and rendering the facility temporarily inoperable. Mariners in the area may have lost their credentials in the storm and subsequent flooding, or may be in possession of credentials that either have expired or will soon be expiring. The Coast Guard has previously implemented temporary measures to relieve the hardship on mariners in the Gulf Coast area who need replacement documents. With new temporary authority granted by Congress, the Coast Guard is implementing the additional measure of extending the expiration dates for the credentials of eligible mariners until February 28, 2006.

DATES: This Notice is effective January 17, 2006.

FOR FURTHER INFORMATION CONTACT: If you have questions on this notice, call Mr. Donald J. Kerlin, Deputy Director, Coast Guard National Maritime Center (NMC), (202) 493-1006.

SUPPLEMENTARY INFORMATION: Pursuant to section 3 of the Coast Guard Hurricane Relief Act of 2005, Public Law 109-141, the Coast Guard is initiating temporary credentialing measures for merchant mariner's documents (MMD), merchant marine licenses, certificates of registry (COR), and Standards of Training, Certification and Watchkeeping endorsements (STCW endorsement) for individuals who meet the following conditions:

(1) if the individual is a resident of Alabama, Mississippi, or Louisiana as confirmed by the Coast Guard's Merchant Mariner Licensing and Documentation system (MMLD), or

(2) if the individual is a resident of any other State, and the records of the individual—

(A) were located at the Coast Guard facility in New Orleans that was damaged by Hurricane Katrina; or

(B) were damaged or lost as a result of Hurricane Katrina.

A credential that shows that it was issued in New Orleans, LA, will be sufficient proof that the mariner's records were located at the Coast Guard facility in New Orleans for category (2)(A) above.

The following measures are applicable to all eligible mariners whose credentials have been lost, or have expired, or may expire, during the period indicated within this Notice.

Until February 28, 2006, mariners from Alabama, Mississippi, and Louisiana who lost their credentials may apply at any REC to receive a duplicate credential that will bear the same expiration date and qualifications as the original document that was lost. The evaluation and issuance fees, usually charged for the issuance of duplicate credentials, will be waived. Please see the Notices published in the Federal Register in Volume 70, pages 57885 (October 4, 2005) and 59078 (October 11, 2005) for more details on the waiver program.

Due to the time it takes to process renewal applications, mariners who visit an REC to obtain a duplicate credential that is within one year of expiration should apply for a renewal or upgraded credential at the same time that they receive their duplicate credential.

If a credential in a mariner's possession, including a duplicate issued under the provisions described above, has expired or will expire between March 1, 2005, and February 28, 2006, and the credential indicates that either the mariner's home of record is in Alabama, Mississippi, or Louisiana, or that the credential was issued at New Orleans, LA, then that credential together with a copy of this Notice will serve as a valid credential until February 28, 2006.

A mariner who is a resident of any other State, and whose credential was issued at a location other than New Orleans and has expired or will expire between March 1, 2005, and February 28, 2006, and whose records were damaged or lost as a result of Hurricane Katrina, should contact any REC for the procedures to obtain official correspondence affirming that the mariner's credential remains valid until February 28, 2006.

Due to the hurricane, Regional Examination Center (REC) New Orleans was forced to close for approximately six months or more and additional resources were allocated to RECs Memphis, Houston, Miami, and Charleston. Mariners may seek assistance at these or any of the other 12 RECs around the country, a list of which appears at 46 CFR 10.105 and 12.01-7.

Authority: Coast Guard Hurricane Relief Act of 2005, PL 109-141, 2005 HR 4508, 46 U.S.C. 2103, 2110, 7101, 7302, 7501, and 7502, and Department of Homeland Security Delegation No. 0170.1.

Dated: January 11, 2006.
C.E. Bone,
Acting Assistant Commandant for Prevention, RDML, U.S.C.G.

[FR Doc. E6-406 Filed 1-13-06; 8:45 am]

BILLING CODE 4910-15-P